DEPARTMENT OF COMMERCE

National Oceanic and Atmospheric Administration

[RTID 0648-XD382]

South Atlantic Fishery Management Council (Council); Public Meeting

AGENCY: National Marine Fisheries Service (NMFS), National Oceanic and Atmospheric Administration (NOAA), Commerce.

ACTION: Notice of a public meeting.

SUMMARY: The South Atlantic Fishery Management Council (Council) will hold a meeting of the Snapper Grouper Advisory Panel (AP) in Charleston, SC.

DATES: The meetings will be held October 10-12, 2023. The Snapper Grouper AP will meet from 1 p.m. until 5 p.m. on October 10; from 8:30 a.m. until 5 p.m. on October 11; and 8:30 a.m. until 12 p.m. on October 12, 2023.

ADDRESSES:

Meeting address: Town & Country Inn and Suites, 2008 Savannah Highway, Charleston, SC 29407; phone: (843) 571-1000.

FOR FURTHER INFORMATION CONTACT: Kim Iverson, Public Information Officer, SAFMC; phone: (843) 571-4366 or toll free: (866) SAFMC-10; fax: (843) 769-4520; email: kim.iverson@safmc.net.

SUPPLEMENTARY INFORMATION: Meeting information, including the agenda, overview, briefing book materials, and an online public comment form will be posted on the Council's website at: https://safmc.net/advisory-panel-meetings/ two weeks prior to the meeting. The meeting is open to the public and available via webinar as it occurs. The webinar registration link will be available from the Council's website. Public comment will also be taken during the meeting.

The agenda for the Snapper Grouper AP meeting includes: updating the blueline tilefish and golden tilefish fishery performance reports; updates and discussion of issues pertaining to Amendment 46 to the Snapper Grouper Fishery Management Plan (Private Recreational Permit); Snapper Grouper Amendment 55 (Scamp and Yellowmouth Grouper); Snapper Grouper Amendment 44 (Yellowtail Snapper); and providing input for a Management Strategy Evaluation (MSE) for the snapper grouper fishery.

AP members will also receive updates on additional ongoing amendments to the Snapper Grouper Fishery Management Plan and other Council programs and initiatives. The AP will provide input and recommendations on agenda items for the Council's consideration and address other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 19, 2023.
Rey Israel Marquez,
Acting Deputy Director, Office of Sustainable Fisheries, National Marine Fisheries Service.

[FR Doc. 2023-20620 Filed 9-22-23; 8:45 am]

BILLING CODE 3510-22-P